FARM CREDIT ADMINISTRATION

Farm Credit Administration Board; Regular Meeting; Sunshine Act

AGENCY: Farm Credit Administration.

SUMMARY: Notice is hereby given, pursuant to the Government in the Sunshine Act (5 U.S.C. 552b(e)(3)), of the forthcoming regular meeting of the Farm Credit Administration Board (Board).

DATE AND TIME: The regular meeting of the Board will be held at the offices of the Farm Credit Administration in McLean, Virginia, on October 12, 2000, from 9:00 a.m. until such time as the Board concludes its business.

FOR FURTHER INFORMATION CONTACT: Kelly Mikel Williams, Secretary to the Farm Credit Administration Board, (703) 883-4025, TDD (703) 883-4444.

ADDRESSES: Farm Credit Administration, 1501 Farm Credit Drive, McLean, Virginia 22102-5090.

SUPPLEMENTARY INFORMATION: This meeting of the Board will be open to the public (limited space available). In order to increase the accessibility to Board meetings, persons requiring assistance should make arrangements in advance. The matters to be considered at the meeting are:

Open Session

1. Approval of Minutes

September 14, 2000 (Open and Closed).

2. Report

Corporate Approvals Report.

1. New Business—Other

Corporate and Chartering Approvals (Consent Action).

A. ACA Formations

1. Valley AgCredit, PCA/FLCA

2. FCS of Eastern Missouri, PCA/FLCA

3. Eastern Arkansas, PCA/FLCA

B. ACA Restructuring

1. Farm Credit of South Florida, ACA

C. Conversions to ACAs

1. Heritage Land Bank, FLCA

2. Panhandle Plains PCA

3. AgTexas FCS

4. AgriLand FCS

Dated: October 5, 2000.
Kelly Mikel Williams,
Secretary, Farm Credit Administration Board.

[FR Doc. 00-26105 Filed 10-5-00; 4:25 pm]

BILLING CODE 6705-01-P